FEDERAL MARITIME COMMISSION

Ocean Transportation Intermediary License; Revocation

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 3105F.

Name: CJG International, Inc.

Address: 40397 Big Oak Flat Road South, Oakhurst, CA 93644.

Date Revoked: August 28, 2011.

Reason: Failed to maintain a valid bond.

License Number: 11272N.

Name: Stalwart Shipping, Inc.

Address: 40397 Big Oak Flat Road South, Oakhurst, CA 93644.

Date Revoked: August 28, 2011.

Reason: Failed to maintain a valid bond.

License Number: 018702N.

Name: TC & RE Enterprises, Inc. dba Joinus Worldwide Freight.

Address: 1201 South Beach Blvd., Suite 202, La Habra, CA 90631.

Date Revoked: August 1, 2011.

Reason: Voluntarily surrendered license.

License Number: 019203N.

Name: Newport Logistics, Inc.

Address: 2454 East Dempster Street, Suite 206, Des Plaines, IL 60016.

Date Revoked: August 28, 2011.

Reason: Failed to maintain a valid bond.

License Number: 019476N.

Name: Embarque Tenares Corp.

Address: 2249 Washington Avenue, Bronx, NY 10457.

Date Revoked: August 31, 2011.

Reason: Failed to maintain a valid bond.

License Number: 021414NF.

Name: Procargo USA, LLC.

Address: 1609 NW 82nd Avenue, Doral, FL 33126.

Date Revoked: August 28, 2011.

Reason: Failed to maintain valid bonds.

Sandra L. Kusumoto,
Director, Bureau of Certification and Licensing.

[FR Doc. 2011-25913 Filed 10-6-11; 8:45 am]

BILLING CODE 6730-01-P